ENVIRONMENTAL PROTECTION AGENCY

[FRL-6881-3]

National Drinking Water Advisory Council; Request for Nominations

AGENCY: Environmental Protection Agency.

ACTION: Notice; request for nominations.

SUMMARY: The U.S. Environmental Protection Agency (EPA) invites all interested persons to nominate qualified individuals to serve a three-year term as members of the National Drinking Water Advisory Council. This Advisory Council was established to provide practical and independent advice, consultation and recommendations to the Agency on the activities, functions and policies related to the implementation of the Safe Drinking Water Act as amended. The Council consists of fifteen members, including a Chair. Five members represent the general public; five members represent appropriate state and local agencies concerned with water hygiene and public water supply; and five members represent private organizations or groups demonstrating an active interest in the field of water hygiene and public water supply. On December 15 of each year, five members complete their appointment. Therefore, this notice solicits names to fill five vacancies, with appointed terms ending on December 15, 2003.

Any interested person or organization may nominate qualified individuals for membership. Nominees should be identified by name, occupation, position, address and telephone number. To be considered, all nominations must include a current resume providing the nominee's background, experience and qualifications.

Persons selected for membership will receive compensation for travel and a nominal daily compensation while attending meetings. The Council holds two face to face meetings each year, generally in the Spring and Fall. Additionally, members may be asked to serve on one of the Council's working groups that are formed each year to assist the EPA in major program issue development. These meetings are held approximately four times a year, with two meetings by conference call.

Nominations should be submitted to Charlene E. Shaw, Designated Federal Officer, National Drinking Water Advisory Council, U.S. Environmental Protection Agency, Office of Ground Water and Drinking Water (4601), 1200 Pennsylvania Avenue, NW, Ariel Rios Building, Washington, DC 20460, no later than October 30, 2000. The Agency will not formally acknowledge or respond to nominations. E-Mail your questions to shaw.charlene@epa.gov or call 202/260-2285.

Dated: September 28, 2000.
Charlene E. Shaw,
Designated Federal Officer, National Drinking Water Advisory Council.

[FR Doc. 00-25603 Filed 10-4-00; 8:45 am]

BILLING CODE 6560-50-P